DEPARTMENT OF LABOR

Employment and Training Administration

Workforce Investment Act (WIA) Section 167, the National Farmworker Jobs Program (NFJP)

AGENCY: Employment and Training Administration (ETA), Labor.

ACTION: Notice of formula allocations for the Program Year (PY) 2001 National Farmworker Jobs Program (NFJP), request for comments and waiver of competition for the succeeding 2-year grant period.

SUMMARY: Under section 182(d) of the Workforce Investment Act (WIA) of 1998, ETA is publishing the PY 2001 allocations for the NFJP authorized under section 167 of the WIA. The allocations are distributed to the States by a formula that estimates, by State, the relative demand for NFJP services. The allocations in this Notice apply to the PY beginning July 1, 2001. Under section 167(c)(4)(B) of WIA, the ETA is waiving the requirement for competition for the 2-year grant period beginning July 1, 2001.

DATES: Comments must be submitted on or before May 31, 2001.

ADDRESSES: Comments should be sent to Ms. Alicia Fernandez-Mott, Chief, Division of Seasonal Farmworker Programs, Room N-4641, Employment and Training Administration, U.S. Department of Labor, 200 Constitution Avenue, NW., Washington, DC 20210. Her e-mail address is afernandez@doleta.gov.

FOR FURTHER INFORMATION CONTACT: Ms. Alicia Fernandez-Mott, Chief, Division of Seasonal Farmworker Programs, Room N-4641, Employment and Training Administration, U.S. Department of Labor, 200 Constitution Avenue, NW., Washington, DC 20210. Her telephone number is (202) 693-3729. (This is not a toll-free number.)

SUPPLEMENTARY INFORMATION:

I. Background

On May 19, 1999, we published a Notice of a new formula for allocating funds available for the NFJP (formerly referred to as the section 402 Migrant and Seasonal Farmworker (MSFW Program)) in the Federal Register at 64 FR 27390 (May 19, 1999). The Notice explains how the new formula achieves its purpose of distributing funds geographically by State service area on the basis of each area's relative share of farmworkers who are eligible for enrollment in the NFJP. The new formula consists of a rational combination of multiple data sets that were selected to yield the relative share distribution of eligible farmworkers. The combined-data formula is substantially more relevant to the purpose of aligning the allocations with the eligible population than the allotments determined by the prior formula.

The realignments made by new formula gave rise to significant changes in relative funding levels. These changes are primarily attributable to the inherent weaknesses of the data sources used under the prior formula. The changes are also attributable to the fact that the data had gradually become significantly date-stale. The magnitude of the realignments is substantial for some of the States that are scheduled to experience decreases as a result of the transition from the original distributions to the distributions provided by the new formula. To provide a smooth transition to the realigned distributions, Part IV of the May 19, 1999 Notice stated a strategy for phased implementation of the new formula through four incremental “hold harmless” stages. The stages provide a graduated implementation of the formula allocations by limiting the rate of reduction in relative funding levels to the four annual increments of 95 percent of the 1998 level in PY 1999, 90 percent in PY 2000, 85 percent in PY 2001, and 80 percent in PY 2002. Full implementation of the new (combined-data) formula will be reached on the 5th year allocation in PY 2003. The May 19, 1999, Notice provides that PY 2001 is the third stage hold-harmless year, under which each State service area will receive no less than 85 percent of its PY 1998 allocation. (See 64 FR 27390, 27399 at section IV(3) (May 19, 1999)). PY 2001 is the operating year that begins on July 1, 2001.

Because it is the best available allocation tool, we continue to implement the new formula by applying the third implementation step of the formula described in the May 19, 1999, Notice to allocate PY 2001 WIA section 167 funds. The rationale for the new allocation formula and the underlying methodology on how the new formula realigns the distribution of NFJP allocations, is fully explained in the May 19, 1999 Notice. Section III of this Notice describes how the PY 2001 formula allocations are adjusted to account for the budget additions provided by Congress.

The Department of Labor invites comments on our decision to continue the phased implementation of this formula in allocating PY 2001 funds for the NFJP.

II. Limitation on Non-NFJP Uses of Section 167 Funds

The Fiscal Year 2001 appropriation for all the MSFW programs under WIA section 167 is $76,770,000. Under 20 CFR 669.240(a), “[a]t least 94 percent of the funds appropriated each year for the WIA section 167 farmworker activities must be allocated to State service areas, based on the distribution of the eligible MSFW population. * * *” This means that $72,163,800 is the minimum amount that must be allocated under the formula for PY 2001, and it is the amount allocated for PY 2001 under this Notice.

In appropriating the funds for PY 2001, Congress provided direction for the use of additional funds authorized above the amount requested in the budget. In the Senate Committee on Appropriations Report 106-293, the Committee recommended the additional funding to offset the scheduled adjustment to those State service areas undergoing a reduction in funding, by financing the difference between their PY 1998 level and the PY 2001 hold-harmless adjusted level. The additional funding was approved in the final appropriation legislation.

III. PY 2001 Allocations

In PY 2001, the base amount selected for allocation under the formula using the third step's 85 percent hold harmless allotment, is the PY 1999 allocated amount of $67,596,408. The additional funding provided under congressional direction in PYs 1999, 2000, and 2001 is applied cumulatively to sustain at their 1998 levels those State service areas that receive a declining relative share of funding by the progressive application of the new formula.

The details for the PY 2001 allocations are provided in the table provided at the end of this Notice. The third step (85 percent hold-harmless) allocations are given in column “E”. For comparison with the figures in Column “E”, column “F” uses the table's software program to provide an arithmetic calculation of 85 percent of the PY 1998 allotments. Column “G” provides the additional “make whole” amounts allotted under the congressional recommendation to bring to their PY 1998 levels those State service areas where the demographics reflected under the formula show there has been a decline in the relative share of eligible farmworkers. At this stage, the PY 2001 amount allotted is the sum of the third step's formula allotment (column “E”) of $67,606,916 and the “make-whole” amount of $4,242,312 which brings all States to their PY 1998 levels (column G). However, the total amount allocated at this stage is $314,572 short of the minimum 94 percent amount ($72,163,800) that must be allocated to the State areas for operating the NFJP. To allocate this amount, column H carries over from column D the unadjusted formula relative shares for the States experiencing a rising relative share. Column I shows the percentage calculation of the relative distribution among those States. Column J distributes the $314,572 using the percentages determined under column I. Column K which is the sum of columns E, G and J, provides the final NFJP allotments for PY 2001.

IV. Rhode Island and the Minimum Funding Provisions

Part V of the May 19, 1999, Federal Register Notice provides that a State service area allocated less than $60,000 could be combined with an adjoining State service area. As in PY 2000, the PY 2001 Rhode Island area allocation is combined with the Connecticut area allocation.

In PY 2003, which is the next scheduled NFJP competition cycle, we intend to compete the combined two-State geographic area of Connecticut and Rhode Island as a single service area.

V. PY 2001 Allotments

The final (far right-hand) column K of the “Allocation Table” provides the allotments for the NFJP in PY 2001. Grantees will use these figures in preparing the PY 2001 NFJP grant plans.

VI. PY 1999 and 2000 Competition

The competition for the current 2-year period, comprising the 1999 and 2000 Program Years, was held in 1999. Under the authority of section 167(c)(4)(B), the Department of Labor is waiving the requirement for competition of the succeeding 2-year period (PYs 2001 and 2002) for each recipient grantee.

Under WIA section 167(c)(4)(B) grantees are required to submit a 2-year plan for the second biennial period that is satisfactory to the Grant Officer. The requirement for competition for the recipient will be considered to be waived upon the Grant Officer's receipt of a satisfactory 2-year plan.

Signed at Washington, D.C., this 11th day of May, 2001.
Shirley M. Smith,
Administrator, Office of Adult Services.

National Farmworker Jobs Program State Allocations for Program Year 2001 ($72,163,800)
State | PY 1998 allotments | PY 2001 formula allocation w/o hold-harmless adjustment | PY 2001 formula % share w/o hold-harmless | PY 2001 allocation with hold-harmless adjustment | 85% of PY98 allotments (compare) | Adjust. to bring states to PY 1998 levels | States with an increase relative share (percent) | Relative share among Col. H states (percent) | Alloctn. to achieve 94% min. | PY 2001 allots.
A | B | C | D | E | F | G | H | I | J | K
Alabama | $791,835 | $437,632 | 0.67766 | $673,060 | $673,060 | $118,775 |  |  |  | $791,835
Arizona | 1,519,645 | 1,719,287 | 2.66226 | 1,697,659 | 1,291,698 | 0 | 2.662 | 3.62 | $11,403 | 1,709,062
Arkansas | 1,167,409 | 724,893 | 1.12247 | 992,298 | 992,298 | 175,111 |  |  | 0 | 1,167,409
California | 14,591,138 | 20,067,526 | 31.07392 | 16,668,927 | 12,402,467 | 0 | 31.074 | 42.31 | 133,107 | 16,802,034
Colorado | 805,523 | 992,449 | 1.53678 | 908,281 | 684,695 | 0 | 1.537 | 2.09 | 6,583 | 914,864
Connecticut | 206,024 | 303,689 | 0.47025 | 237,468 | 175,120 | 0 | 0.470 | 0.64 | 2,014 | 239,482
Delaware | 118,334 | 125,899 | 0.19495 | 125,899 | 100,584 | 0 | 0.195 | 0.27 | 835 | 126,734
Florida | 4,631,415 | 2,465,700 | 3.81806 | 3,936,703 | 3,936,703 | 694,712 |  |  | 0 | 4,631,415
Georgia | 1,711,615 | 876,499 | 1.35723 | 1,454,873 | 1,454,873 | 256,742 |  |  | 0 | 1,711,615
Idaho | 877,438 | 1,079,184 | 1.67108 | 989,177 | 745,822 | 0 | 1.671 | 2.28 | 7,158 | 996,335
Illinois | 1,425,808 | 1,424,912 | 2.20643 | 1,425,808 | 1,211,937 | 0 | 2.206 | 3.00 | 9,451 | 1,435,259
Indiana | 781,615 | 927,202 | 1.43574 | 877,617 | 664,373 | 0 | 1.436 | 1.96 | 6,150 | 883,767
Iowa | 1,314,394 | 1,078,955 | 1.67073 | 1,117,235 | 1,117,235 | 197,159 |  |  | 0 | 1,314,394
Kansas | 697,839 | 1,078,783 | 1.67046 | 809,536 | 593,163 | 0 | 1.670 | 2.27 | 7,156 | 816,692
Kentucky | 1,352,613 | 1,043,179 | 1.61533 | 1,149,721 | 1,149,721 | 202,892 |  |  | 0 | 1,352,613
Louisiana | 796,032 | 484,907 | 0.75086 | 676,627 | 676,627 | 119,405 |  |  | 0 | 796,032
Maine | 327,397 | 174,702 | 0.27052 | 278,287 | 278,287 | 49,110 |  |  | 0 | 327,397
Maryland | 306,291 | 363,789 | 0.56332 | 343,957 | 260,347 | 0 | 0.563 | 0.77 | 2,413 | 346,370
Massachusetts | 351,027 | 298,012 | 0.46146 | 298,373 | 298,373 | 52,654 |  |  | 0 | 351,027
Michigan | 878,641 | 944,430 | 1.46242 | 944,430 | 746,845 | 0 | 1.462 | 1.99 | 6,264 | 950,694
Minnesota | 1,274,775 | 879,095 | 1.36125 | 1,083,559 | 1,083,559 | 191,216 |  |  | 0 | 1,274,775
Mississippi | 1,449,044 | 571,321 | 0.88467 | 1,231,687 | 1,231,687 | 217,357 |  |  | 0 | 1,449,044
Missouri | 1,094,524 | 976,379 | 1.51189 | 976,379 | 930,345 | 118,145 |  |  | 0 | 1,094,524
Montana | 667,189 | 461,861 | 0.71518 | 567,111 | 567,111 | 100,078 |  |  | 0 | 667,189
Nebraska | 774,884 | 1,092,397 | 1.69154 | 887,991 | 658,651 | 0 | 1.692 | 2.30 | 7,246 | 895,237
Nevada | 200,795 | 159,091 | 0.24635 | 170,676 | 170,676 | 30,119 |  |  | 0 | 200,795
New Hampshire | 112,600 | 100,958 | 0.15633 | 100,958 | 95,710 | 11,642 |  |  | 0 | 112,600
New Jersey | 400,038 | 698,545 | 1.08168 | 472,365 | 340,032 | 0 | 1.082 | 1.47 | 4,633 | 476,998
New Mexico | 598,720 | 934,978 | 1.44778 | 695,528 | 508,912 | 0 | 1.448 | 1.97 | 6,202 | 701,730
New York | 1,850,667 | 1,088,774 | 1.68593 | 1,573,067 | 1,573,067 | 277,600 |  |  | 0 | 1,850,667
North Carolina | 3,006,003 | 1,897,104 | 2.93760 | 2,555,103 | 2,555,103 | 450,900 |  |  | 0 | 3,006,003
North Dakota | 468,362 | 609,496 | 0.94379 | 531,469 | 398,108 | 0 | 0.944 | 1.29 | 4,043 | 535,512
Ohio | 904,951 | 1,264,492 | 1.95803 | 1,035,876 | 769,208 | 0 | 1.958 | 2.67 | 8,387 | 1,044,263
Oklahoma | 608,145 | 1,276,891 | 1.97723 | 740,354 | 516,923 | 0 | 1.977 | 2.69 | 8,470 | 748,824
Oregon | 1,087,697 | 1,452,311 | 2.24886 | 1,238,069 | 924,542 | 0 | 2.249 | 3.06 | 9,633 | 1,247,702
Pennsylvania | 1,221,441 | 1,549,985 | 2.40010 | 1,381,926 | 1,038,225 | 0 | 2.400 | 3.27 | 10,281 | 1,392,207
Rhode Island | 0 | 38,832 | 0.06013 | 4,021 | 0 | 0 | 0.060 | 0.08 | 258 | 4,279
South Carolina | 1,080,106 | 391,046 | 0.60552 | 918,090 | 918,090 | 162,016 |  |  | 0 | 1,080,106
South Dakota | 692,869 | 456,831 | 0.70739 | 588,939 | 588,939 | 103,930 |  |  | 0 | 692,869
Tennessee | 957,799 | 720,217 | 1.11523 | 814,129 | 814,129 | 143,670 |  |  | 0 | 957,799
Texas | 5,979,800 | 6,697,752 | 10.37126 | 6,673,284 | 5,082,830 | 0 | 10.371 | 14.12 | 44,426 | 6,717,710
Utah | 245,354 | 288,106 | 0.44612 | 275,185 | 208,551 | 0 | 0.446 | 0.61 | 1,911 | 277,096
Vermont | 213,134 | 105,217 | 0.16293 | 181,164 | 181,164 | 31,970 |  |  | 0 | 213,134
Virginia | 1,036,441 | 708,789 | 1.09754 | 880,975 | 880,975 | 155,466 |  |  | 0 | 1,036,441
Washington | 1,705,576 | 2,262,216 | 3.50297 | 1,939,806 | 1,449,740 | 0 | 3.503 | 4.77 | 15,005 | 1,954,811
West Virginia | 219,325 | 100,275 | 0.15527 | 186,426 | 186,426 | 32,899 |  |  | 0 | 219,325
Wisconsin | 1,229,201 | 953,157 | 1.47593 | 1,044,821 | 1,044,821 | 184,380 |  |  | 0 | 1,229,201
Wyoming | 201,911 | 232,207 | 0.35956 | 225,954 | 171,624 | 0 | 0.360 | 0.49 | 1,540 | 227,494
Total Cntr. U.S. | 63,933,384 | 64,579,952 | 100.00 | 64,580,848 | N/A | 4,077,948 | 73.436 | 1.00000 | 314,570 | 68,973,366
Conterminous U.S. | 63,933,384 | 64,579,952 | 95.53755 |  |  |  |  |  |  |
Hawaii | 251,607 | 204,254 | 0.30217 | 213,868 | 213,866 | 37,739 |  |  | 0 | 251,607
Puerto Rico | 2,938,827 | 2,812,202 | 4.16028 | 2,812,200 | 2,498,003 | 126,627 |  |  | 0 | 2,938,827
Subtot. (HI+PR) | 3,190,434 | 3,016,456 | 4.46 | 3,026,068 | N/A | 164,366 |  |  | 0 | 3,190,434
Total U.S. | 67,123,818 | 67,596,408 | 100.00 | 67,606,916 |  | 4,242,314 |  |  | 314,570 | 72,163,800
|  |  |  |  |  |  |  |  |  | 72,163,800
|  |  |  |  |  |  |  |  | 314,570 | 72,163,800

[FR Doc. 01-13019 Filed 5-22-01; 8:45 am]

BILLING CODE 4510-30-P